DEPARTMENT OF DEFENSE

Office of the Secretary

[Transmittal No. 15-74]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-74 with attached Policy Justification and Sensitivity of Technology.

Dated: February 8, 2016.
Aaron Siegel,
Alternate OSD Federal Register Liaison Officer, Department of Defense.

BILLING CODE 5001-06-P

BILLING CODE 5001-06-C

Transmittal No. 15-74

Notice of Proposed Issuance of Letter of Offer Pursuant to Section 36(b)(1) of the Arms Export Control Act, as amended

(i) Prospective Purchaser: Taipei Economic and Cultural Representative Office in the United States

(ii) Total Estimated Value:

Major Defense Equipment * | $50.0 million
Other | $ 7.0 million
Total | $57.0 million

(iii) Description and Quantity or Quantities of Articles or Services under Consideration for Purchase:

Major Defense Equipment (MDE):

Two-hundred and eight (208) Javelin Guided Missiles

Also included with this request are U.S. Government and contractor technical assistance, above the line transportation costs, and other related elements of logistics and program support.

(iv) Military Department: Army (ZBS)

(v) Prior Related Cases, if any:

FMS Case: YWG, Basic: $39.8M-8 Jul 02

A01: $39.98M-18 Jul 03

A02: $39.98-04 Nov 05

A03: $39.7M-15 Dec 09

YZD, Basic: $28.8M-11 Dec 09

A01: $30.1M-25 Oct 10

(vi) Sales Commission, Fee, etc., Paid, Offered, or Agreed to be Paid: None

(vii) Sensitivity of Technology Contained in the Defense Article or Defense Services Proposed to be Sold: See Annex attached

(viii) Date Report Delivered to Congress: 16 December 2015

* as defined in Section 47(6) of the Arms Export Control Act.

POLICY JUSTIFICATION

Taipei Economic and Cultural Representative Office in the United States—Javelin Missile

The Taipei Economic and Cultural Representative Office in the United States has requested a possible sale of two-hundred and eight (208) Javelin Guided Missiles; U.S. Government and contractor technical assistance, above the line transportation costs, and other related elements of logistics and program support. The estimated cost is $57 million.

This sale is consistent with United States law and policy as expressed in Public Law 96-8.

This proposed sale serves U.S. national, economic, and security interests by supporting the recipient's continuing efforts to modernize its armed forces and enhance its defensive capability. The proposed sale will help improve the security of the recipient and assist in maintaining political stability, military balance, and economic progress in the region.

The Javelin missile will provide the recipient with increased capacity to meet its coastal and homeland defense requirements. The recipient will have no difficulty absorbing this equipment into its armed forces.

The prime contractors will be Raytheon/Lockheed Martin Javelin Joint Venture of Orlando, Florida and Tucson, Arizona. The purchaser normally requests industrial cooperation at forty percent, but at this time there are no known offset agreements proposed in connection with this potential sale.

Implementation of this proposed sale will not require the assignment of any additional U.S. Government or contractor representatives to the recipient.

There will be no adverse impact on U.S. defense readiness as a result of this proposed sale.

Transmittal No. 15-74

Notice of Proposed Issuance of Letter of Offer Pursuant to Section 36(b)(1) of the Arms Export Control Act

Annex

Item No. vii

(viii) Sensitivity of Technology:

1. The Javelin Weapon System is a medium-range, man-portable, shoulder-launched, fire-and-forget, anti-tank system for infantry, scouts, and combat engineers. It may also be mounted on a variety of platforms to include vehicles and watercraft. The system weighs 49.5 pounds and has a maximum range in excess of 2,500 meters. The system is highly lethal against tanks and other systems with conventional and reactive armors. The system possesses a secondary capability against bunkers.

2. Javelin's key technical feature is the use of fire-and-forget technology which allows the gunner to fire and immediately relocate or take cover. Additional special features are the top attack and/or direct fire modes, an advanced tandem warhead and imaging infrared seeker, target lock-on before launch, and soft launch from enclosures or covered fighting positions. The Javelin missile also has a minimum smoke motor thus decreasing its detection on the battlefield.

3. The missile is autonomously guided to the target using an imaging infrared seeker and adaptive correlation tracking algorithms.

4. The Javelin Missile System hardware and the documentation are UNCLASSIFIED. The missile software which resides in the Command Launch Unit (CLU) is considered sensitive. The sensitivity is primarily in the software programs which instruct the system how to operate in the presence of countermeasures. The overall hardware is also considered sensitive in that the infrared wavelengths could be useful in attempted countermeasure development. The benefits to be derived from the sale, as outlined in the policy justification of the notification, outweigh the potential damage that could result if sensitive technology was revealed to unauthorized persons.

5. If a technologically advanced adversary were to obtain knowledge of the specific hardware and software elements, the information could be used to develop countermeasures that might reduce weapon system effectiveness or be used in the development of a system with similar or advanced capabilities. All defense articles and services listed in this transmittal have been authorized for release and export to the Taipei Economic and Cultural Representative Office in the United States.

[FR Doc. 2016-02865 Filed 2-11-16; 8:45 am]

BILLING CODE 5001-06-P